DEPARTMENT OF COMMERCE

National Oceanic and Atmospheric Administration

Gulf of Mexico Fishery Management Council; Public Meetings

AGENCY: National Marine Fisheries Service (NMFS), National Oceanic and Atmospheric Administration (NOAA), Commerce.

ACTION: Notice; public hearings.

SUMMARY: The Gulf of Mexico Fishery Management Council (Council) will hold twelve public hearings/workshops and two webinars to solicit public comments on Amendment 39—Regional Management of Recreational Red Snapper, Amendment 41—Charter for-hire Red Snapper Management, and Amendment 42—Headboat Reef Fish Management.

DATES: The meetings will be held October 19-November 3, 2015. The meetings will begin at 6 p.m. and will conclude no later than 9 p.m. For specific dates and times see SUPPLEMENTARY INFORMATION. Written public comments must be received on or before 5 p.m. e.s.t., Friday, November 6, 2015.

ADDRESSES: The public documents can be obtained by contacting the Gulf of Mexico Fishery Management Council, 2203 N. Lois Avenue, Suite 1100, Tampa, FL 33607; (813) 348-1630 or on their Web site at www.gulfcouncil.org.

Meeting addresses: The meetings will be held in Corpus Christi, San Antonio, Houston, and League City, TX; Gulfport, MS; Mobile and Orange Beach/Gulf Shores, AL; Destin, Clearwater and St. Petersburg, FL; Baton Rouge and Houma, LA, and two webinars. For specific locations, see SUPPLEMENTARY INFORMATION.

Public comments: Comments may be submitted online through the Gulf Council's public portal by visiting www.gulfcouncil.org and clicking on “CONTACT US”.

FOR FURTHER INFORMATION CONTACT: Douglas Gregory, Executive Director, Gulf of Mexico Fishery Management Council; telephone: (813) 348-1630.

SUPPLEMENTARY INFORMATION: The agenda for the following twelve hearings/workshops and two webinars are as follows: Council staff will brief the public on the respective amendment(s) for each meeting, including Amendment 39—Regional Management of Recreational Red Snapper, Amendment 41—Charter for-hire Red Snapper Management, and Amendment 42—Headboat Reef Fish Management. Staff will then open the meeting for questions and public comments. The schedule is as follows:

Locations, Schedules, and Agendas

Monday, October 19, 2015, from 6-9 p.m.; Amendments 39, 41 and 42—Courtyard Marriott Gulfport Beachfront, 1600 East Beach Boulevard, Gulfport, MS 39501; telephone: (228) 864-4310; Amendment 39—Hilton Garden Inn, 6717 South Padre Island Drive, Corpus Christi, TX 78412; telephone: (361) 991-8200.

Tuesday, October 20, 2015, from 6-9 p.m.; Amendment 39—Renaissance Mobile Riverview Plaza Hotel, 64 South Water Street, Mobile, AL 36602; telephone: (251) 438-4000; Amendment 39—Embassy Suites San Antonio, 10110 US Highway 281 North, San Antonio, TX 78216; telephone: (210) 525-9999.

Wednesday, October 21, 2015, from 6-9 p.m.; Amendment 39—Hampton Inn and Suites, 2320 Gulf Freeway South, League City, TX 77573; telephone: (281) 614-5437; Amendments 41 and 42—Adult Activity Center; 26251 Canal Road, Orange Beach, AL; (251) 981-3440.

Thursday, October 22, 2015, from 6-9 p.m.; Amendments 39, 41 and 42—Embassy Suites, 570 Scenic Gulf Drive, Destin, FL 32550; telephone: (850) 337-7000; Amendments 41 and 42—Hilton Galveston Island, 5400 Seawall Boulevard, Galveston, TX 77551; telephone: (409) 744-5000.

Monday, October 26, 2015, from 6-9 p.m.; Amendments 41 and 42—Marriott Clearwater Beach on Sand Key, 1201 Gulf Boulevard, Clearwater Beach, FL 33767; telephone: (727) 596-1100.

Tuesday, October 27, 2015, from 6-9 p.m.; Amendment 39—Hilton St. Petersburg Carillon Park, 950 Lake Carillon Drive, St. Petersburg, FL 33716; telephone: (727) 540-0050.

Wednesday, October 28, 2015, from 6-9 p.m.; Webinar public hearing for Amendment 39, register to participate at https://attendee.gotowebinar.com/register/6937796694781610242 . Thursday, October 29, 2015, from 6-9 p.m.; Webinar workshop for Amendments 41 and 42, register to participate https://attendee.gotowebinar.com/register/3438241399083407617.

Monday, November 2, 2015, from 6-9 p.m.; for Amendment 39—DoubleTree, 4964 Constitution Avenue, Baton Rouge, LA 70808; telephone: (225) 925-1005.

Tuesday, November 3, 2015, from 6-9 p.m.; for Amendments 41 and 42—Courtyard Marriott, 142 Library Drive, Houma, LA 70360; telephone: (985) 223-8996.

Special Accommodations

These meetings are physically accessible to people with disabilities. Requests for sign language interpretation or other auxiliary aids should be directed to Kathy Pereira (see ADDRESSES), at least 5 working days prior to the meeting date.

Authority: 16 U.S.C. 1801 et seq.

Dated: September 29, 2015.
Tracey L. Thompson,
Acting Deputy Director, Office of Sustainable Fisheries, National Marine Fisheries Service.

[FR Doc. 2015-25139 Filed 10-2-15; 8:45 am]

BILLING CODE 3510-22-P